DEPARTMENT OF DEFENSE

Department of the Army

Notice of Availability of the Chemical and Biological Defense Program (CBDP) Draft Programmatic Environmental Impact Statement (DPEIS)

AGENCY: U.S. Army Medical Research and Materiel Command (USAMRMC), Department of the Army, DoD.

ACTION: Notice of availability.

SUMMARY: The Army has prepared a DPEIS covering the execution of an integrated CBDP designed to protect our soldiers, sailors, marines, and airmen from the evolving chemical and biological (CB) threats they may encounter on the battlefield. The DPEIS evaluates the potential environmental impacts associated with the execution of the DoD CBDP. The National Defense Authorization Act for Fiscal Year 1994 mandated the coordination and integration of all DoD CB defense programs. The Army is the executive agency for the CBDP.

DATES: The public comment period for the DPEIS will end 45 days after publication of the Notice of Availability in the Federal Register by the U.S. Environmental Protection Agency.

ADDRESSES: Written comments or requests for copies of the DPEIS may be made to Ms. JoLane Souris, Environmental Coordinator, U.S. Army Medical Research and Materiel Command, Attn: MCMR-ZC-S, 504 Scott Street, Fort Detrick, MD 21702-5012 or visit the CBDP DPEIS Web site at http://chembioeis.detrick.army.mil.

FOR FURTHER INFORMATION CONTACT: Ms. JoLane Souris by calling (301) 619-2004 or by fax at (301) 619-6627.

SUPPLEMENTARY INFORMATION: The mission of the DoD CBDP is to provide CB defense capabilities to allow the military forces of the United States to survive and successfully complete their operational missions in battle space environments contaminated with CB warfare agents. If our military forces are not fully and adequately prepared to meet this threat, the consequences could be devastating. The CBDP to support this mission comprises research, development, and acquisition activities. Some of these CBDP activities necessarily involve the use of hazardous chemicals or infectious disease agents for research, development, and production purposes. The controls on and the potential environmental consequences of such use for both the proposed action and the alternative were primary focuses of the CBDP DPEIS.

The activities take place at numerous military installations and contractor facilities throughout the United States. Details concerning the CBDP are contained in the CBDP Annual Report to Congress, April 2002 at http://www.acq.osd.mil/cp/reports.html. The proposed action consists of the execution of an integrated CBDP designed to protect our soldiers, sailors, marines, and airmen from the evolving CB threats they may encounter on the battlefield. The no action alternative, continuation of current CBDP operations as described in and covered by existing environmental analyses, also was evaluated. No other alternatives were identified during the public scoping process.

Although numerous environmental documents dating back to the Biological Defense Research Program Final PEIS (April 1989) have been prepared analyzing the potential environment consequences of various elements of he CBDP, no one document analyzes the potential environmental impacts of the full range of CBDP activities. In keeping with the purposes of NEPA, DoD has now prepared such a document in the form of the CBDP DPEIS. This document creates an overarching framework that will continue to ensure fully informed Government decision making within the CBDP and will provide a single, up-to-date information resource for the public.

Comments, including names and addresses of respondents, will be available for public review during regular business hours at the address shown in the ADDRESSES section of this Notice. Individual respondents may request confidentiality. If you wish to withhold your name and address from public review or disclosure, you must state this prominently at the beginning of your comment. Such requests will be honored to the extent allowed by law. Anonymous comments, however, will not be considered. All submissions from organizations or businesses and from individuals identifying themselves as representatives or officials of organizations or businesses will be made available for public inspection in their entirety.

Dated: April 28, 2003.
Raymond J. Fatz,
Deputy Assistant Secretary of the Army (Environment, Safety and Occupational Health) OASA(I&E).

[FR Doc. 03-10973 Filed 5-2-03; 8:45 am]

BILLING CODE 3710-08-M